DEPARTMENT OF THE INTERIOR

National Park Service

Notice of Intent to Repatriate Cultural Items: Amherst College Museum of Natural History, Amherst College, Amherst, MA

AGENCY: National Park Service, Interior.

ACTION: Notice.

Notice is here given in accordance with the Native American Graves Protection and Repatriation Act (NAGPRA), 25 U.S.C. 3005, of the intent to repatriate cultural items in the possession of the Amherst College Museum of Natural History (formerly Pratt Museum of Natural History), Amherst College, Amherst, MA, that meet the definition of “unassociated funerary objects” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

Between July 2 and July 27, 1909, cultural items were excavated from coastal shell middens on Sawyer's Island, Lincoln County, ME, by Professor F.B. Loomis. A document in the Amherst College Archives, Pratt Museum Papers, titled “Field Record of Specimens from `Sawyer's Island First Digging,' a Paleo-Indian Site”, gives the provenience for the materials he collected. This document shows that, among many other faunal and cultural objects, Loomis found one human jaw with five teeth. This jaw is no longer in the possession of the Amherst College Museum of Natural History; the date and circumstances under which these partial human remains left the museum collections are unknown. The 69 cultural items in this notice may have been associated with the now missing human remains. It is not known whether the cultural items come from the same burial or the same site as the partial human remains; only that all of the cultural items come from Sawyer's Island middens and were excavated in the same month. Consultation with the Wabanaki Intertribal Repatriation Committee, a non-Federally recognized Indian group, which represents the Federally-recognized Aroostook Band of Micmac Indians of Maine, Houlton Band of Maliseet Indians of Maine, Passamaquoddy Tribe of Maine, and Penobscot Tribe of Maine, indicates that they consider the objects could have been funerary, and therefore, are unassociated funerary objects as defined by 25 U.S.C. 3001. The 69 unassociated funerary objects are 31 bone awls, 11 bone tools, 9 horn tools, 6 stone tools, 6 stone arrow or spear heads, 3 celts, 1 stone amulet, 1 tooth pendant, and 1 bone harpoon point.

Loomis interpreted the material collected on Sawyer's Island to be Algonquin and the people of the middens to be related to the present-day Abnakis of Maine, (see Loomis & Young, American Journal of Science, v. 34, p. 41). Loomis concluded that the middens were built between 200 to 400 years prior to European contact, A.D. 1627, (see Loomis, American Journal of Science, v. 31, p. 227). According to Dr. John Stubbs, Jr., Peabody Museum of Archeology and Ethnology, the presence of pottery fragments found within the Sawyer's Island midden suggests the human remains and cultural items are most likely less than 2,700 years old. The Federally-recognized Aroostook Band of Micmac Indians of Maine, Houlton Band of Maliseet Indians of Maine, Passamaquoddy Tribe of Maine, and Penobscot Tribe of Maine, represented by the Wabanaki Intertribal Repatriation Committee, a non-Federally recognized Indian group, are widely recognized as having a shared cultural relationship with the people of the Ceramic Period of Maine (2,000 B.P. to European contact).

Officials of the Amherst College Museum of Natural History have determined that, pursuant to 25 U.S.C. 3001 (3)(B), the 69 cultural items described above are reasonably believed to have been placed with or near individual human remains at the time of death or later as part of the death rite or ceremony and are believed, by a preponderance of the evidence, to have been removed from a specific burial site of a Native American individual. Officials of the Amherst College Museum of Natural History also have determined that, pursuant to 25 U.S.C. 3001 (2), there is a relationship of shared group identity that can be reasonably traced between the unassociated funerary objects and the Federally-recognized Aroostook Band of Micmac Indians of Maine, Houlton Band of Maliseet Indians of Maine, Passamaquoddy Tribe of Maine, and Penobscot Tribe of Maine, which are represented by the Wabanaki Intertribal Repatriation Committee, a non-Federally recognized Indian group.

Representatives of any other Indian tribe that believes itself to be culturally affiliated with the unassociated funerary objects should contact Tekla A. Harms, Repatriation Coordinator & Professor of Geology, Department of Geology, Amherst College, Amherst, MA 01002, telephone (413) 542-2711, before January 8, 2010. Repatriation of the unassociated funerary objects to the Aroostook Band of Micmac Indians of Maine, Houlton Band of Maliseet Indians of Maine, Passamaquoddy Tribe of Maine, and Penobscot Tribe of Maine may proceed after that date if no additional claimants come forward.

The Amherst College Museum of Natural History is responsible for notifying the Aroostook Band of Micmac Indians of Maine, Houlton Band of Maliseet Indians of Maine, Passamaquoddy Tribe of Maine, and Penobscot Tribe of Maine that this notice has been published.

Dated: November 9, 2009.
David Tarler,
Acting Manager, National NAGPRA Program.

[FR Doc. E9-29289 Filed 12-8-09; 8:45 am]

BILLING CODE 4312-50-S